DEPARTMENT OF COMMERCE

International Trade Administration

[A-570-830]

Coumarin From the People's Republic of China; Preliminary Results of Changed Circumstances Review and Intent To Revoke the Antidumping Duty Order

AGENCY: Import Administration, International Trade Administration, Department of Commerce.

SUMMARY: The Department of Commerce (the Department) is conducting a changed circumstances review of the antidumping duty order on coumarin from the People's Republic of China (PRC). The preliminary results of this review indicate that Rhodia, Inc., the successor-in-interest to Rhone-Poulenc and the sole U.S. producer of coumarin, ceased production during 2002. Consequently, we have preliminarily determined to revoke the antidumping duty order on coumarin from the Peoples Republic of China effective February 1, 2003, the earliest date for which there are entries which have not been subject to an administrative review.

EFFECTIVE DATE: January 26, 2004.

FOR FURTHER INFORMATION CONTACT: Scott Lindsay or Dana Mermelstein, Import Administration, International Trade Administration, U.S. Department of Commerce, 14th Street and Constitution Avenue, NW., Washington, DC 20230, at (202) 482-0780 or (202) 482-1391, respectively.

SUPPLEMENTARY INFORMATION:

Background

On February 9, 1995, the Department published in the Federal Register the antidumping duty order on coumarin from the PRC. See Notice of Antidumping Order: Coumarin From the People's Republic of China, 60 FR 7751. On June 23, 2003, Berjé Incorporated (Berjé), a U.S. importer of subject merchandise and an interested party in this proceeding, requested that the Department conduct a changed circumstances review for the purpose of revoking the antidumping duty order on coumarin from the PRC. According to Berjé, Rhone-Poulenc Specialty Chemicals Company (Rhone-Poulenc), the petitioner, was the only domestic coumarin producer at the time of the original investigation. Berjé also indicated that since the original investigation, Rhone-Poulenc has changed its company name and now does business under the name Rhodia, Inc. (Rhodia) and that Rhodia remained the only producer of coumarin in the United States. Berjé informed the Department that Rhodia, in a press release dated November 28, 2001, announced its intent to cease production of coumarin in 2002. Berjé provided further information obtained from Rhodia indicating that Rhodia no longer produces coumarin in the United States.

Based on Berjé's June 23, 2003 submission, the Department initiated this changed circumstances review on July 31, 2003. See Notice of Initiation of Changed Circumstances Review and Consideration of Revocation of the Antidumping Duty Order: Coumarin From the Peoples's Republic of China, 68 FR 46579. On August 26, 2003, Rhodia submitted comments on the initiation of this changed circumstances review. Rhodia stated that while it had produced and distributed coumarin in the United States during the most recent administrative review period, February 1, 2002 through January 31, 2003, it no longer produces coumarin in the United States. Rhodia further stated that it did not oppose the revocation of the order on a prospective basis.

Also on August 26, 2003, H. Reynaud & Fils USA Co. (HRF), an importer of the subject merchandise, submitted comments regarding the effective date of the revocation of the order. HRF claimed to have confirmed via a telephone call to Rhodia that the factory had actually shut down in May 2002. HRF then noted that, since it takes approximately 2 months to actually close down a factory, Rhodia probably ceased production in March 2002. Therefore, HRF requested that the revocation of the order be made retroactive to March 2002. On September 5, 2003, Berjé submitted a response to Rhodia's August 26, 2003 comments. Berjé argued that the effective date of the revocation of the order should be July 1, 2002. Berjé reasoned that because Rhodia had not requested an administrative review during the most recent anniversary month, February 2003, the most recent review period before Rhodia ceased production was the administrative review that would have covered February 2001 through January 2002. In addition, Berjé stated that Rhodia was vague about when its production actually ceased, referring only to mid-2002. As such, Berjé stated that mid-2002 should be considered June 30, 2002, and, as a result, the effective date of the revocation of the order should be July 1, 2002, the day after Rhodia stopped production. No other parties commented on our Notice of Initiation of Changed Circumstances Review and Consideration of Revocation of the Antidumping Duty Order: Coumarin From the Peoples's Republic of China, 68 FR 46579.

Scope of the Antidumping Duty Order

The product covered by this order is coumarin. Coumarin is an aroma chemical with the chemical formula (C9H6O2) that is also known by other names, including 2H-1-benzopyran-2-one, 1, 2-benzopyrone, cis-o-coumaric acid lactone, coumarinic anhydride, 2-Oxo-1, 2-benzopyran, 5, 6-benzo-alpha-pyrone, ortho-hydroxyc innamic acid lactone, cis-ortho-coumaric acid anhydride, and tonka bean camphor.

All forms and variations of coumarin are included within the scope of the order, such as coumarin in crystal, flake, or powder form, and “crude” or unrefined coumarin (i.e., prior to purification or crystallization). Excluded from the scope of this order are ethylcoumarins (C11H10O2) and methylcoumarins (C10H8O2). Coumarin is classifiable under subheading 2932.21.0000 of the Harmonized Tariff Schedule of the United States (HTSUS). Although the HTSUS subheading is provided for convenience and customs purposes, our written description of the scope of this investigation is dispositive.

Preliminary Results of Review and Intent To Revoke the Antidumping Duty Order

The Department preliminarily determines that the producer accounting for all of the domestic like product to which the order pertains has ceased U.S. production and has expressed a lack of interest in the relief provided by this order, and thus, sufficient changed circumstances exist to warrant revocation of the order. The Department also preliminarily determines that the effective date of revocation for this order should be February 1, 2003, the earliest date for which entries of coumarin have not been subject to an administrative review. Therefore, the Department preliminarily determines that it shall revoke, effective February 1, 2003, the antidumping duty order on coumarin from the PRC in whole, pursuant to sections 751(b) and (d) and 782(h) of the Act, as well as 19 CFR 351.216 and 351.222(g).

Pursuant to section 782(h)(2) of the Act, the Department may revoke an antidumping or countervailing duty order based on a review under section 751(b) of the Act (i.e., a changed circumstances review). Section 751(b)(1) of the Act requires a changed circumstances review to be conducted upon receipt of a request which shows changed circumstances sufficient to warrant a review. Section 351.222(g) of the regulations provides that the Department will conduct a changed circumstances review under § 351.216 of the regulations, and may revoke an order (in whole or in part), if it determines that producers accounting for substantially all of the production of the domestic like product to which the order (or the part of the order to be revoked) pertains have expressed a lack of interest in the relief provided by the order, in whole or in part, or if other changed circumstances exist sufficient to warrant revocation. Furthermore, it is the Department's practice to revoke an antidumping duty order so that the effective date of revocation covers entries that have not been subject to a completed administrative review. See e.g., Large Newspaper Printing Presses and Components Thereof, Whether Assembled or Unassembled, From Germany: Notice of Final Results of Changed Circumstances Review, Revocation of the Antidumping Duty Order, and Rescission of Administrative Reviews, 67 FR 19551.

Public Comment

Pursuant to 19 CFR 351.309, interested parties may submit written comments in response to these preliminary results. Case briefs are currently scheduled for submission within 30 days after the date of publication of this notice, and rebuttal briefs, limited to arguments raised in case briefs, must be submitted no later than five (5) days after the time limit for filing case briefs. Parties who submit briefs in this proceeding are requested to submit with the briefs: (1) A statement of the issue, and (2) a brief summary of the argument. Case and rebuttal briefs must be served on interested parties in accordance with 19 CFR 351.303(f). Also, pursuant to 19 CFR 351.310, within 30 days of the date of publication of this notice, interested parties may request a public hearing on arguments to be raised in the case and rebuttal briefs. Unless the Secretary specifies otherwise, the hearing, if requested, will be held two days after the deadline for submission of rebuttal briefs. The Department plans to issue the final results of this administrative review, including its analysis of issues raised in any case or rebuttal brief or at a hearing, not later than April 26, 2004.

Instructions to U.S. Customs and Border Protection

If our final results do not differ from our preliminary results with respect to revocation, the Department, in accordance with 19 CFR 351.222, will instruct the U.S. Customs and Border Protection (CBP) to terminate the suspension of liquidation and to liquidate, without regard to antidumping duties, all unliquidated entries of coumarin from the PRC, entered, or withdrawn from warehouse, for consumption on or after February 1, 2003. The Department will further instruct CBP to refund with interest any estimated duties collected with respect to unliquidated entries of coumarin from the PRC entered, or withdrawn from warehouse, for consumption on or after February 1, 2003, in accordance with section 778 of the Act.

This administrative review and notice are in accordance with sections 751(a)(1) and 771 (i)(1) of the Tariff Act.

Dated: January 16, 2004.
James J. Jochum,
Assistant Secretary for Import Administration.

[FR Doc. 04-1577 Filed 1-23-04; 8:45 am]

BILLING CODE 3510-DS-P